ENVIRONMENTAL PROTECTION AGENCY

[FRL-6873-4]

Agency Information Collection Activities: Submission for OMB Review; Comment Request; Information Collection Request for the National Listing of Advisories

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Information Collection Request for the National Listing of Advisories (EPA ICR 1959.01. The ICR describes the nature of the information collection and its expected burden and cost; where appropriate, it includes the actual data collection instrument.

DATES: Comments must be submitted on or before October 23, 2000.

ADDRESSES: Send comments referencing EPA ICR No. 1959.01 to the following addresses: Sandy Farmer, U.S. Environmental Protection Agency, Office of Environmental Information, Collection Strategies Division (2822), 1200 Pennsylvania Ave, NW., Washington, DC 20460; Office of Information and Regulatory Affairs, Office of Management and Budget, Attention: Desk Officer for EPA, 725 17th Street, NW., Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1959.01. For technical questions about the ICR, contact Jeffrey Bigler at EPA, by phone at (202) 260-1305, and by e-mail at bigler.jeff@epa.gov

SUPPLEMENTARY INFORMATION: Title: Information Collection Request for the National

Listing of Advisories, EPA ICR Number 1959.01. This is a request for a new collection.

Abstract: Based on results from the 1998 National Listing of Fish and Wildlife Advisories (NLFWA) database, fish consumption advisories have been issued by 47 states and from 100 to 200 new advisories are issued every year nationwide.

EPA's Office of Water will conduct an annual fish advisory survey which will be sent to environmental and health officials from state, territorial, and tribal agencies specifically responsible for the issuance of fish advisories. This survey will collect information (electronically via the Internet or on paper) on advisory locations and agencies and persons responsible for maintaining and issuing advisories for lakes, rivers, and coastal marine waterbodies. Responses to the questionnaire are needed to assess public health risks of consuming chemically-contaminated fish. EPA will make this information available to states, territories, tribes, other federal agencies and the general public through distribution of the annual Fish Advisory Fact Sheet and a summary report (on the Internet and in hard copy) on the EPA's NLFWA web site (http://www.epa.gov/OST/fish/). This information will be used to identify and clarify issues that will lead to the continued development of national guidance to assist state fish advisory programs and will further protect human health.

Completion of this survey is voluntary as the information requested is part of the state public record associated with issuing advisories. In the past, states have requested EPA guidance in their fish advisory programs and a more comprehensive questionnaire will provide the states an opportunity to identify advisory areas in which they need assistance.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 21, 2000 (65 FR 21415-21416). No comments were received.

Burden Statement: The annual public reporting and recordkeeping burden for this collection of information is estimated to average 39 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, territory, and tribal environmental and health agencies.

Estimated Number of Respondents: 92.

Frequency of Response: Annually.

Estimated Total Annual Hours Burden: 3,565 hours.

Estimated Total Annualized Cost Burden (non-labor costs):$528.

Dated: September 12, 2000.
Oscar Morales,
Director, Collection Strategies Division.

[FR Doc. 00-24317 Filed 9-20-00; 8:45 am]

BILLING CODE 6560-50-P